ENVIRONMENTAL PROTECTION AGENCY

[EPA-HQ-OLEM-2020-0354; FRL—10021-68-OMS]

Information Collection Request Submitted to OMB for Review and Approval; Comment Request; Gathering Data on Results of Annual and Triennial Testing To Evaluate the Impacts of EPA's 2015 Federal Underground Storage Tank Regulation

AGENCY: Environmental Protection Agency (EPA).

ACTION: Notice.

SUMMARY: The Environmental Protection Agency (EPA) has submitted an information collection request (ICR), Gathering Data on Results of Annual and Triennial Testing to Evaluate the Impacts of EPA's 2015 Federal Underground Storage Tank Regulation (EPA ICR No. 2650.01, OMB Control No. 2050-NEW) to the Office of Management and Budget (OMB) for review and approval in accordance with the Paperwork Reduction Act. This is a request for approval of a new collection. Public comments were previously requested via the Federal Register on November 5, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 19, 2021.

ADDRESSES: Submit your comments to EPA, referencing Docket ID: EPA- HQ-OLEM-2020-0354, online using www.regulations.gov (our preferred method), by email to docket_oms@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Elizabeth McDermott, Prevention Division, Office of Underground Storage Tanks, Mail Code 5401R, Environmental Protection Agency, 1200 Pennsylvania Ave. NW, Washington, DC 20460; telephone number: 202-564-0646; email address: McDermott.Elizabeth@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This information collection request will allow EPA to employ a contractor to compile data from private companies providing regular servicing and maintenance to owners of federally regulated underground storage tank systems (USTs). The contractor will collect and assimilate testing data from several UST servicing companies. The contractor's deliverable will be a database of the performance results over multiple iterations of newly required UST testing procedures in various states across the country. These new tests were required by the 2015 UST regulation and are performed either annually or triennially. The data gathered will be pass/fail results from several testing measures, taken from facilities in 17 states where regulations went into effect soonest. These facilities were first required to be tested sometime after the 2015 federal regulation passed, with the second round of triennial required testing to be completed by October 2021.

The completed dataset of test results will allow EPA to evaluate the effectiveness of several of the newly required measures to prevent fuel releases that was required in the 2015 federal UST regulation. Data will be compiled from UST servicing companies about tests performed prior to the initial testing deadline, and from tests results for regulatory compliance for the second test required either within one year or three years after the initial test (depending on the test requirements). EPA may use the data to identify if, and by how much, testing required by the regulation impacts pass/fail rates over time. EPA is interested in quantitatively assessing if pass/fail rates improve between initial and subsequent rounds of testing in those states where data is collected.

Form Numbers: None.

Respondents/affected entities: UST testing and compliance companies, UST facility owners and operators.

Respondent's obligation to respond: Voluntary.

Estimated number of respondents: 680 (total).

Frequency of response: One-time collection.

Total estimated burden: 4,817 hours (per year). Burden is defined at 5 CFR 1320.03(b).

Total estimated cost: $605,186 (per year), includes no annualized capital or operation & maintenance costs.

Changes in the Estimates: This is a request for a new collection.

Courtney Kerwin,
Director, Regulatory Support Division.

[FR Doc. 2021-05654 Filed 3-18-21; 8:45 am]

BILLING CODE 6560-50-P